NATIONAL AERONAUTICS AND SPACE ADMINISTRATION

48 CFR Parts 1802, 1806, 1815, 1816, and 1843

RIN 2700-AC33

Definitions

AGENCY: National Aeronautics and Space Administration.

ACTION: Final rule.

SUMMARY: This final rule revises the NASA FAR Supplement (NFS) by amending the definitions of “contracting activity” and “head of contracting activity” consistent with realignment of program management responsibilities between NASA Headquarters and the field centers.

EFFECTIVE DATE: May 2, 2003.

FOR FURTHER INFORMATION CONTACT: Harold Nelson, NASA, Office of Procurement, Program Operations (Code HS); (202) 358-0436; e-mail: harold.a.nelson@nasa.gov.

SUPPLEMENTARY INFORMATION:

A. Background

On November 14, 2002, the Assistant Administrator for Procurement approved a deviation to NFS section 1802.101 to designate the Deputy Associate Administrator for the International Space Station (ISS) and Space Shuttle Programs in the Office of Space Flight as the head of the contracting activity (HCA) in lieu of the Center Director(s) for all contracts that directly support the ISS or Space Shuttle Program. This deviation was approved in support of the realignment of program management responsibilities between NASA Headquarters and the field centers. This final rule implements this deviation.

B. Regulatory Flexibility Act

This final rule does not constitute a significant revision within the meaning of FAR 1.501 and Public Law 98-577, and publication for public comment is not required. However, NASA will consider comments from small entities concerning the affected NFS Parts 1802, 1806, 1815, 1816, and 1843 in accordance with 5 U.S.C. 610.

C. Paperwork Reduction Act

The Paperwork Reduction Act does not apply because the changes do not impose recordkeeping or information collection requirements which require the approval of the Office of Management and Budget under 44 U.S.C. 3501, et seq.

List of Subjects in 48 CFR Parts 1802, 1806, 1815, 1816, and 1843

Government Procurement.

Tom Luedtke,
Assistant Administrator for Procurement.

Accordingly, 48 CFR Parts 1802, 1806, 1815, 1816, and 1843 are amended as follows:

1. The authority citation for 48 CFR Parts 1802, 1806, 1815, 1816, and 1843 continues to read as follows:

Authority: 42 U.S.C. 2473(c)(1).

PART 1802—DEFINITIONS OF WORDS AND TERMS

2. Amend section 1802.101 by revising the definitions of “contracting activity” and “head of the contracting activity” to read as follows:

1802.101 Definitions.

* * * * *

“Contracting activity” in NASA includes the NASA Headquarters installation and the following field installations: Ames Research Center, Dryden Flight Research Center, Glenn Research Center at Lewis Field, Goddard Space Flight Center, Johnson Space Center, Kennedy Space Center, Langley Research Center, Marshall Space Flight Center and Stennis Space Center. A major program that may have contracts at multiple field centers may also be considered a “contracting activity.”

* * * * *

“Head of the contracting activity” (HCA) means, for field installations, the Director or other head and, for NASA Headquarters, the Director for Headquarters Operations. For International Space Station (ISS) and Space Shuttle Program contracts, the HCA is the Headquarters Deputy Associate Administrator for ISS and Shuttle Programs in lieu of the field Center Director(s).

* * * * *

PART 1806—COMPETITION REQUIREMENTS

3. Amend section 1806.304-70 by revising paragraphs (b)(2) and (c)(1)(iii) to read as follows:

1806.304-70 Approval of NASA justifications.

* * * * *

(b) * * *

(2) Approving official: Head of contracting activity.

(c) * * *

(1) * * *

(iii) Head of contracting activity.

* * * * *

PART 1815—CONTRACTING BY NEGOTIATION

1815.370 [Amended]

4. In section 1815.370, amend the last sentence of paragraph (h)(5) by deleting “center director” and adding “head of contracting activity” in its place.

PART 1816—TYPES OF CONTRACTS

1816.402-270 [Amended]

5. In section 1816.402-270, amend the second sentence of paragraph (a) by deleting “Center Director” and adding “head of contracting activity” in its place.

PART 1843—CONTRACT MODIFICATIONS

1843.7003 [Amended]

6. In section 1843.7003, amend paragraphs (a)(1) and (b)(2) by deleting “Center Director” and adding “head of contracting activity” in its place.

1843.7004 [Amended]

7. In section 1843.7004, amend the introductory text of paragraph (a) by deleting “Center Director” and adding “head of contracting activity” in its place.

[FR Doc. 03-10806 Filed 5-1-03; 8:45 am]

BILLING CODE 7510-01-P